SECURITIES AND EXCHANGE COMMISSION

[OMB Control No. 3235-0325]

Agency Information Collection Activities; Proposed Collection; Comment Request; Extension: Form F-4—Registration Statement

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form F-4 (17 CFR 239.34) is used by foreign issuers to register securities in business combinations, reorganizations and exchange offers pursuant to the Securities Act of 1933 (15 U.S.C. 77a et seq.). The information collected is intended to ensure that the information required to be filed by the Commission permits verification of compliance with securities law requirements and assures the public availability of such information. We estimate that Form F-4 takes approximately 1,435.79 hours per response and is filed one per year by approximately 60 registrants annually. We estimate that 25% of the 1,435.79 hours per response (358.95 hours) is carried internally by the registrant for a total annual reporting burden of 21,537 hours (358.95 hours per response × 60 responses). We estimate that 75% of the 1,435.79 hours per response is carried externally by outside professionals retained by the issuer at an estimated rate of $600 per hour for a total annual cost burden of $38,766,330 ($600 per hour × (75% × 1,435.79 total burden hours per response) × 60 responses annually).

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by March 16, 2026. There will be a second opportunity to comment on this SEC request following the Federal Register publishing a 30-Day Submission Notice.

Dated: January 9, 2026.
J. Matthew DeLesDernier,
Deputy Secretary.

[FR Doc. 2026-00491 Filed 1-12-26; 8:45 am]

BILLING CODE 8011-01-P